DEPARTMENT OF TRANSPORTATION

Federal Highway Administration

Notice of Final Federal Agency Actions on Proposed Highway in North Carolina

AGENCY: Federal Highway Administration (FHWA), DOT.

ACTION: Notice of limitation on claims for judicial review of actions by FHWA, United States Army Corps of Engineers (USACE), and other Federal agencies.

SUMMARY: This notice announces actions taken by the FHWA, the USACE, and other Federal agencies that are final within the meaning of 23 U.S.C. 139(l)(1). The actions relate to a proposed highway project, replacement of Bridge No. 198 on Secondary Road 1172 (SR 1172) over the Atlantic Intracoastal Waterway from the island to mainland portions in the Town of Sunset Beach in the County of Brunswick in the State of North Carolina, also known as Transportation Improvement Program Project B-0682. Those actions grant licenses, permits, and approvals for the project.

DATES: By this notice, the FHWA is advising the public of final agency actions subject to 23 U.S.C. 139(l)(1). A claim seeking judicial review of the Federal agency actions that are covered by this notice will be barred unless the claim is filed on or before 180 days after publication of this notice in the Federal Register. If the Federal law that authorizes judicial review of a claim provides a time period of less than 180 days for filing such claim, then that shorter time period still applies.

FOR FURTHER INFORMATION CONTACT: Clarence W. Coleman, P.E., Operations Engineer, Federal Highway Administration, 310 New Bern Avenue, Raleigh, North Carolina 27601-1418; Telephone: (919) 856-4350; e-mail: clarence.coleman@fhwa.dot.gov. FHWA North Carolina Division Office's normal business hours are 8 a.m. to 5 p.m. (Eastern Time). Gregory J. Thorpe, Ph.D., Project Development and Environmental Analysis (PDEA) Branch Manager, North Carolina Department of Transportation (NCDOT), 1 South Wilmington Street (Delivery), 1548 Mail Service Center, Raleigh, North Carolina 27699-1548; Telephone: (919) 733-3141; e-mail: gthorpe@dot.state.nc.us. NCDOT-PDEA Branch Office's normal business hours are 8 a.m. to 5 p.m. (Eastern Time). Jennifer Frye, Regulatory Project Manager, Wilmington Field Office, U.S. Army Corps of Engineers, P.O. Box 1890, Wilmington, North Carolina 28402-1890; Telephone: (910) 251-4923; e-mail: Jennifer.S.Frye@usace.army.mil. U.S. Army Corps of Engineers' Wilmington Field Office normal business hours are 8 a.m. to 5 p.m. (Eastern Time).

SUPPLEMENTARY INFORMATION: Notice is hereby given that FHWA and other Federal agencies have taken final agency actions by issuing licenses, permits, and approvals for the following highway project in the State of North Carolina: Replacement of Bridge No. 198, Federal Aid No. BRS-1813(1), from the island to the mainland portions in the Town of Sunset Beach in the County of Brunswick in the State of North Carolina, also known as Transportation Improvement Program Project B-0682. The project involves construction of a new high-level, fixed-span bridge located approximately 150 feet (45.7 meters) west of the existing pontoon bridge. The proposed length of the replacement bridge will be 2,563 feet. There will be a minimum vertical clearance of 65 feet (19.8 meters) over the entirety of the 90-foot-wide (27.4-meter-wide) channel maintained by the USACE. The proposed span over the channel would be of sufficient length to provide a minimum of 180 feet (54.9 meters) of horizontal clearance between the bridge footings. The actions by the Federal agencies, and the laws under which actions were taken are described in the Final Environmental Impact Statement (FEIS) approved on October 30, 1997, in the Record of Decision (ROD) issued on August 27, 1999, in other documents in the FHWA administrative record, and in the USACE decisions and its administrative record for the project, referenced as USACE Permit No. SAW-1993-88-010. These documents in the FHWA administrative record file are available by contacting the FHWA, USACE, or NCDOT at the addresses provided above, and can be viewed at the offices of NCDOT-PDEA Branch, 1 South Wilmington Street, Raleigh, North Carolina.

This notice applies to all USACE and other Federal agency actions and decisions as of the issuance date of this notice and all laws under which such actions were taken, including but not limited to:

1. General: National Environmental Policy Act (NEPA) [42 U.S.C. 4321-4351]; Federal-Aid Highway Act [23 U.S.C. 109].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and Section 1536], Marine Mammal Protection Act [16 U.S.C. 1361], Anadromous Fish Conservation Act [16 U.S.C. 757(a)-757(g)], Fish and Wildlife Coordination Act [16 U.S.C. 661-667(d)], Migratory Bird Treaty Act [16 U.S.C. 703-712], Magnuson-Stevenson Fishery Conservation and Management Act of 1976, as amended [16 U.S.C. 1801 et seq.].

5. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Land and Water Conservation Fund (LWCF) [16 U.S.C. 4601-4604]; Safe Drinking Water Act (SDWA) [42 U.S.C. 300(f)-300(j)(6)]; Wild and Scenic Rivers Act [16 U.S.C. 1271-1287]; Emergency Wetlands Resources Act [16 U.S.C. 3921, 3931]; TEA-21 Wetlands Mitigation [23 U.S.C. 103(b)(6)(m), 133(b)(11)]; Flood Disaster Protection Act [42 U.S.C. 4001-4128].

8. Hazardous Materials: Comprehensive Environmental Response, Compensation, and Liability Act (CERCLA) [42 U.S.C. 9601-9675]; Superfund Amendments and Reauthorization Act of 1986 (SARA); Resource Conservation and Recovery Act (RCRA) [42 U.S.C. 6901-6992(k)].

9. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: July 18, 2007.
Clarence W. Coleman,
Operations Engineer, Raleigh, North Carolina.

[FR Doc. E7-14324 Filed 7-23-07; 8:45 am]

BILLING CODE 4910-RY-P